AGENCY FOR INTERNATIONAL DEVELOPMENT

48 CFR Parts 701 and 705

RIN 0412-AA88

U.S. Agency for International Development Acquisition Regulation; Administrative Updates: Correction

AGENCY: U.S. Agency for International Development.

ACTION: Direct final rule, Correction.

SUMMARY: The U.S. Agency for International Development (USAID) is issuing this final rule revising the Agency for International Development Acquisition Regulation (AIDAR) to maintain consistency with Federal and agency regulations, remove obsolete material and internal agency procedures, and make editorial amendments to clarify the regulation.

DATES: Effective date: May 22, 2024.

FOR FURTHER INFORMATION CONTACT: Lyudmila Bond, 202-916-2622, policymailbox@usaid.gov.

SUPPLEMENTARY INFORMATION: In the FR Doc. 2023-27953, starting on page 4201 in the Federal Register of January 23, 2024, USAID is making the following corrections:

1. On page 4203, starting in the first column, section 701.470 is corrected by:

a. Revising paragraphs (a)(2)and (b)(1);

b. redesignating paragraph (b)(3) through (5) as (b)(4) through (6); and

c. adding new paragraph (b)(3).

The revisions and addition read as follows:

701.470 [Corrected]

(a) * * *

(2) In preparing and submitting deviations for approval, USAID operating units must follow the applicable USAID policies in the ADS 300 series, including mandatory written consultations with the Bureau for Management, Office of Acquisition and Assistance, Policy Division (M/OAA/P) and the Office of the General Counsel. For deviations related to AIDAR appendices D and J, Director of M/OAA clearance is required in lieu of M/OAA/P consultations, as outlined in appendices D and J. The CO must retain all approved deviations in the contract file.

(b) * * *

(1) Class deviations from the AIDAR will be processed in the same manner as prescribed in paragraph (a)(2) of this section.

* * * * *

(3) Individual heads of contracting activities have authority to approve class deviations affecting contracts only within the contracting activity under their management authority. Only the M/OAA Director has authority to approve class deviations that affect more than one contracting activity.

* * * * *

2. On page 4205, in the first column, section 705.102 is corrected by adding a sentence at the end of the paragraph to read as follows:

705.102 [Corrected]

* * * For FAR 5.102(a)(5) exceptions applicable to personal services contracts with individuals, see appendix D, section 5 and appendix J, section 5.

Jami J. Rodgers,
Chief Acquisition Officer.

[FR Doc. 2024-08588 Filed 4-24-24; 8:45 am]

BILLING CODE 6116-01-P